DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW, Washington, DC.

Docket Number: 03-017. Applicant: University of California, San Diego, Moores UCSD Cancer Center, 9500 Gilman Drive, MC 0658, La Jolla, CA 92093-0658. Instrument: Laser Capture Microdissection System. Manufacturer: Molecular Machines & Industries AG, Switzerland. Intended Use: The instrument is intended to be used for precise sampling of cancer cells intimately mixed with other tissue elements such as fibroblasts, smooth muscle cells, etc. for precise analysis of gene expression patterns in cancer cells relative to their non-neoplastic counterparts. Additionally, the instrument will be used to conduct highly selective sampling of endothelial cells, fibroblasts, epithelial cells and lymphocytes in the vicinity of proliferating tumor cells to investigate the molecular communications between different neoplastic and non-neoplastic cell lineages in the tumor. Application accepted by Commissioner of Customs: April 3, 2003.

Docket Number: 03-018. Applicant: University of North Carolina at Chapel Hill, Lineberger Comprehensive Cancer Center, 102 Mason Farm Road, Room 11-119, Chapel Hill, NC 27599-7295. Instrument: Electron Microscope, Model Tecnai G² 12 TWIN. Manufacturer: FEI Company, The Netherlands. Intended Use: The instrument is intended to be used to examine DNA, DNA with proteins bound to it, virus particles and sub-cellular particles. Sample examination will consist of determining the location of protein molecules along the DNA, whether the DNA molecule is folded or compacted when the proteins are bound, and whether the DNA has any unique shape. Virus properties to be examined will include their shape, size, presence of protruding spikes or appendages, and whether they have loose membranes surrounding them. Application accepted by Commissioner of Customs: April 9, 2003.

Docket Number: 03-019. Applicant: University of California-Berkeley, School of Optometry, 360 Minor Hall, Berkeley, CA 94720-2020. Instrument: Fiber Optical Coherence Tomography Apparatus. Manufacturer: Institute of Applied Physics RAS, Russia. Intended Use: The instrument is intended to be used in the following areas of research:

(1) Viral mediated gene therapy for retinal diseases.

(2) Significance of corneal cell invasion by bacteria.

(3) Homeostatic abilities of the retinal pigment epithelium.

(4) Is retinal processing the key to emmetropization?

(5) Functional dissection of signaling pathways in the lens.

(6) Cataractogensis, connexin mutants and gentice modifier(s). Application accepted by Commissioner of Customs: April 9, 2003.

Docket Number: 03-020. Applicant: Wayne State University, Chemistry Department, Central Instrumental Facility, 123 Chemistry Building, Detroit, MI 48202. Instrument: Electron Microscope, Model JEM-2010 FasTEM. Manufacturer: JEOL Ltd., Japan. Intended Use: The instrument is intended to be used to probe agglomeration of particles and the nature of ligand coat. A variety of synthetic pathways will be undertaken to best optimize the formation of these materials. Selected area electron diffraction will augment these studies to identify the crystalline phase, and energy dispersive X-ray analysis will be used to gain information about the elements that are present in the nanocrystal samples. Application accepted by Commissioner of Customs: April 16, 2003.

Gerald A. Zerdy,
Program Manager, Statutory Import Programs Staff.

[FR Doc. 03-11169 Filed 5-5-03; 8:45 am]

BILLING CODE 3510-DS-P